OFFICE OF THE UNITED STATES TRADE REPRESENTATIVE

Notice of Proposed Measure and Opportunity for Public Comment Pursuant to Section 421 of the Trade Act of 1974: Circular Welded Non-Alloy Steel Pipe From the People's Republic of China

AGENCY: Office of the United States Trade Representative.

ACTION: Notice of proposed measure; request for comments.

SUMMARY: The United States International Trade Commission (ITC) has determined, pursuant to section 421(b)(1) of the Trade Act of 1974, as amended (the Trade Act) (19 U.S.C. 2451(b)(1)), that circular welded non-alloy steel pipe ¹ from the People's Republic of China (China) are being imported into the United States in such increased quantities or under such conditions as to cause or threaten to cause market disruption to the domestic producers of like or directly competitive products. Pursuant to section 421(h)(1) of the Trade Act, the United States Trade Representative (USTR) is publishing notice of proposed restrictions with respect to imports of the subject circular welded non-alloy steel pipe from China. USTR invites domestic producers, importers, exporters, and other interested parties to submit their views and evidence on the appropriateness of the proposed restrictions and whether they would be in the public interest. USTR also invites interested parties to participate in a public hearing (if requested).

¹ For purposes of its investigation, the ITC considered circular welded non-alloy steel pipe to include certain welded carbon quality steel pipes and tubes, of circular cross-section, with an outside diameter of 0.372 inches (9.45 mm) or more, but not more than 16 inches (406.4 mm), regardless of wall thickness, surface finish (black, galvanized, or painted), end finish (plain end, beveled end, grooved, threaded, or threaded and coupled), or industry specification (ASTM, proprietary, or other), generally known as standard pipe and structural pipe (and they may also be referred to as structural or mechanical tubing). The term carbon quality steel may include certain low alloy steel imported as other alloy steel pipes and tubes. Products not included in this investigation are mechanical tubing (whether or not cold-drawn) provided for in HTS subheading 7306.30.50, tube and pipe hollows for redrawing provided for in HTS 7306.30.5035, or finished electrical conduit provided for in HTS 7306.30.5028. API line pipe used in oil or gas applications requiring API certifications is also not included in this investigation. Similarly, pipe produced to the API specifications for oil country tubular goods use are not included in this investigation. The subject imported products are currently provided for in the Harmonized Tariff Schedule of the United States (HTS) subheadings 7306.30.10 and 7306.30.50. Specifically, the various HTS statistical reporting numbers under which the subject standard pipe has been provided for since January 1, 1992, are as follows: 7306.30.1000, 7306.30.5025, 7306.30.5032, 7306.30.5040, 7306.30.5055, 7306.30.5085, and 7306.30.5090.

DATES: Requests for USTR to hold a public hearing are due by November 16, 2005. Written comments and requests to testify at any public hearing are due by November 18, 2005. If a request for USTR to hold a public hearing is received, the hearing will be held on November 29, 2005.

ADDRESSES: Submissions by electronic mail: FR0601@ustr.eop.gov. Submissions by facsimile: Sandy McKinzy, USTR, at (202) 395-9672.

FOR FURTHER INFORMATION CONTACT: For procedural questions concerning public comments and holding of a public hearing, contact Sandy McKinzy, USTR, telephone (202) 395-9483, facsimile (202) 395-9672. Other questions regarding the subject of this notice should be addressed to Terrence J. McCartin, Office of China Affairs, USTR, telephone (202) 395-3900, or Stephen Kho, Office of General Counsel, USTR, telephone (202) 395-7305.

SUPPLEMENTARY INFORMATION:

1. The ITC Investigation and Section 421

Following receipt of a petition filed on August 2, 2005, on behalf of Allied Tube and Conduit Corp., IPSCO Tubulars, Inc., Maruichi American Corp., Maverick Tube Corp., Sharon Tube Co., Western Tube Conduit Corp., Wheatland Tube Co., and the United Steelworkers of America, AFL-CIO, the ITC instituted investigation No. TA-421-6, under section 421 of the Trade Act (19 U.S.C. 2451) to determine whether the subject circular welded non-alloy steel pipe from China are being imported into the United States in such increased quantities or under such conditions as to cause or threaten to cause market disruption to the domestic producers of like or directly competitive products. The ITC made an affirmative market disruption determination on October 3, 2005, and transmitted a report on its determination, as well as its remedy proposals, to USTR on October 21, 2005. The views of the ITC, including its remedy proposals, and the ITC staff report are available on the ITC's Web site (http://hotdocs.usitc.gov/docs/pubs/701_731/pub3807.PDF) and are contained in USITC Publication 3807 (October 2005), entitled “Circular Welded Non-alloy Steel Pipe from China”. A copy of that publication can be obtained from the ITC by faxing a request to (202) 205-2104 or calling (202) 205-1809.

Following an affirmative determination by the ITC, and pursuant to section 421(h) of the Trade Act, USTR is required to make a recommendation to the President concerning what action, if any, to take to remedy the market disruption. Within 15 days after receipt of USTR's recommendation, the President is required to provide import relief unless the President determines that provision of such relief is not in the national economic interest of the United States or, in extraordinary cases, that the taking of action would cause serious harm to the national security of the United States. (Section 421(k).) Prior to making a recommendation, USTR is required to publish notice of any proposed measures and of the opportunity to comment.

2. Proposed Measure and Opportunity for Comment

Two of the four ITC commissioners entitled to vote on remedy recommended that the President impose an annual quota of 160,000 short tons on imports of circular welded non-alloy steel pipe from China for a period of three years. The other two ITC commissioners recommended that the President impose a tariff-rate quota on imports of the subject circular welded non-alloy steel pipe from China for a three-year period as follows: a 25 percent tariff, in addition to the current rate of duty, on imports exceeding 267,468 short tons in the first year, with this quota level increasing by 5 percent in the second year and 10 percent in the third year. All four ITC commissioners further recommended that, if applications are filed, the President direct the U.S. Department of Commerce and the U.S. Department of Labor to provide expedited consideration of trade adjustment assistance for firms and/or workers affected by the subject imports. USTR proposes these remedies for further consideration by domestic producers, importers, exporters, and other interested parties, and invites any of these parties to submit their views and evidence on the appropriateness of the proposed remedies and whether they would be in the public interest. In addition, USTR invites comments on other possible actions, including: imposition of a tariff-rate quota on the subject imports from China, with an in-quota volume, out-of-quota tariff rate, and/or periods different from the ITC recommendation; imposition of an additional duty on imports of the subject imports from China; imposition of a quota on the subject imports from China, with a different quota level; an import monitoring mechanism; or no import relief (pursuant to a determination under section 421(k) of the Trade Act regarding the national economic interest or national security). In commenting on possible actions, interested parties are requested to address: (i) The short- and long-term effects that implementation of the proposed actions are likely to have on the domestic circular welded non-alloy steel pipe industry, other domestic industries, and downstream consumers, and (ii) the short- and long-term effects that not taking the proposed actions are likely to have on the domestic circular welded non-alloy steel pipe industry, its workers, and other domestic industries or communities.

An interested party may request that USTR hold a public hearing, which request must be received by November 16, 2005. Written comments, as well as requests to testify at any public hearing, must be received by November 18, 2005, and should be submitted in accordance with the instructions below. Parties that have requested to testify at any public hearing will be informed if a hearing is to be held. In addition, information on any public hearing may be obtained by contacting Sandy McKinzy at (202) 395-9483. If a public hearing is requested, it will be held on November 29, 2005, at 9:30 a.m. in Rooms 1 and 2, 1724 F Street, NW., Washington, DC. Requests to testify must include the following information: (1) Name, address, telephone number, fax number, and firm or affiliation of the person wishing to testify; and (2) a brief summary of the comments to be presented.

3. Requirements for Submissions

In order to facilitate prompt processing of submissions, USTR strongly urges and prefers electronic (e-mail) submissions in response to this notice.

Persons making submissions by e-mail should use the following subject line: “Circular Welded Non-alloy Steel Pipe” followed by (as appropriate) “Written Comments”, “Request for Public Hearing”, or “Request to Testify”. Documents should be submitted as either WordPerfect, MSWord, or text (.TXT) files. Supporting documentation submitted as spreadsheets are acceptable as Quattro Pro or Excel files. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries will be available for public inspection in the USTR Reading Room. The USTR Reading Room is open to the public, by appointment only, from 10 a.m. to 12 noon and 1 p.m. to 4 p.m., Monday through Friday. An appointment to review the file must be scheduled at least 48 hours in advance and may be made by calling (202) 395-6186.

David Weller,
Deputy Assistant United States Trade Representative for China Affairs.

[FR Doc. 05-22161 Filed 11-7-05; 8:45 am]

BILLING CODE 3910-W6-P